DEPARTMENT OF THE INTERIOR

National Park Service

Notice of Inventory Completion for Native American Human Remains and Associated Funerary Objects in the Possession of the Peabody Museum of Archaeology and Ethnology, Harvard University, Cambridge, MA

AGENCY: National Park Service.

ACTION: Notice.

Notice is hereby given in accordance with provisions of the Native American Graves Protection and Repatriation Act (NAGPRA), 43 CFR 10.9, of the completion of an inventory of human remains and associated funerary objects in the possession of the Peabody Museum of Archaeology and Ethnology, Harvard University, Cambridge, MA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the associated funerary object was made by Peabody Museum of Archaeology and Ethnology professional staff in consultation with representatives of the Karuk Tribe of California.

In 1914, a feather band was donated to the Peabody Museum of Archaeology and Ethnology by Lewis H. Farlow through Grace A. Nicholson. No human remains are present.

Museum records indicate that this feather band is from California and is attributed to the Karuk Tribe of California. The style of manufacture and materials are also consistent with Karuk feather-work items. Grace Nicholson's notes indicate that this type of band or sash was traditionally placed on the body from the right shoulder to the left side. Consultation with representatives of the Karuk Tribe of California indicates that the band was part of a doctor's outfit and had been made with the sole intent of being buried with an individual as part of a death rite and for no other purpose.

Based on the above-mentioned information, officials of the Peabody Museum of Archaeology and Ethnology have determined that, pursuant to 43 CFR 10.2(d)(2)(i), the one object listed above is reasonably believed to have been made exclusively for burial purposes as part of the death rite or ceremony. Officials of the Peabody Museum of Archaeology and Ethnology also have determined that, pursuant to 43 CFR 10.2(e), there is a relationship of shared group identity that can be reasonably traced between this associated funerary object and the Karuk Tribe of California. This notice has been sent to officials of the Karuk Tribe of California. Representatives of any other Indian tribe that believes itself to be culturally affiliated with this associated funerary object should contact Barbara Isaac, Repatriation Coordinator, Peabody Museum of Archaeology and Ethnology, 11 Divinity Avenue, Cambridge, MA 02138, telephone (617) 495-2254, before May 3, 2001. Repatriation of the associated funerary object to the Karuk Tribe of California may begin after that date if no additional claimants come forward.

Dated: March 20, 2001.
John Robbins,
Assistant Director, Cultural Resources Stewardship and Partnerships.

[FR Doc. 01-8174 Filed 4-2-01; 8:45 am]

BILLING CODE 4310-70-F